DEPARTMENT OF TRANSPORTATION

14 CFR Part 73

[Airspace Docket No. 00-AGL-21]

RIN 2120-AA66

Revocation of Restricted Area R-3302 Savanna; IL

AGENCY: Federal Aviation Administration (FAA), DOT.

ACTION: Final rule.

SUMMARY: This action removes Restricted Area 3302 (R-3302) Savanna, IL. The FAA is taking this action in response to a Department of Defense (DOD), United States Army (USA) determination that this restricted airspace is no longer required to support the USA mission.

EFFECTIVE DATE: 0901 UTC, October 5, 2000.

FOR FURTHER INFORMATION CONTACT: Bil Nelson, Airspace and Rules Division, ATA-400, Office of Air Traffic Airspace Management, Federal Aviation Administration, 800 Independence Avenue, SW., Washington, DC 20591; telephone: (202) 267-8783.

SUPPLEMENTARY INFORMATION:

Background

The USA's position on special use airspace (SUA) is that they will keep and efficiently utilize only that airspace necessary to accomplish the mission of the USA. In keeping with that policy, the USA has closed the Savanna Army Depot. As a result, all military related operations have ceased at the depot, therefore, R-3302 is no longer required.

The Rule

This amendment to 14 CFR part 73 removes R-3302 Savanna, IL. The FAA is taking this action in response to a DOD, USA determination that this restricted airspace is no longer required to support the USA mission. Because this action only involves removal of restricted airspace, I find that notice and public comment under 5 U.S.C. 553(b) are unnecessary.

Section 73.33 of 14 CFR part 73 was republished in FAA Order 7400.8G, dated September 1, 1999.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

Environmental Review

This action reduces restricted airspace. The rule contains no changes to air traffic control procedures or routes. Therefore, the FAA has determined that this action is not subject to environmental assessments and procedures in accordance with FAA Order 1050.1D, “Policies and Procedures for Considering Environmental Impacts,” and the National Environmental Policy Act.

List of Subjects on 14 CFR Part 73

Airspace, Navigation (air).

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.33 [Amended]

2. § 73.33 is amended as follows:

* * * * *

R-3302 Savanna, IL [Removed]

* * * * *

Issued in Washington, DC, on August 8, 2000.
Reginald C. Matthews,
Manager, Airspace and Rules Division.

[FR Doc. 00-20585 Filed 8-11-00; 8:45 am]

BILLING CODE 4910-13-P